DEPARTMENT OF HOMELAND SECURITY

Coast Guard

33 CFR Part 117

[CGD11-03-006]

RIN 1625-AA09

Drawbridge Operation Regulations; Mare Island Strait, Napa River, Vallejo, CA

AGENCY: Coast Guard, DHS.

ACTION: Notice of proposed rulemaking.

SUMMARY: The Coast Guard proposes to change the regulation governing the operation of the Mare Island Drawbridge, spanning the Napa River between the City of Vallejo and Mare Island, CA., by eliminating the rush-hour closure periods when the drawspan need not open for vessels and by increasing the hours when vessels provide advance notice for drawspan operation. The proposed action would reduce bridge operating costs without reducing the ability of vessels to transit the drawbridge, thereby continuing to meet the reasonable needs of waterway traffic.

DATES: Comments and related material must reach the Coast Guard on or before January 26, 2004.

ADDRESSES: You may mail comments and related material to Commander (oan), Eleventh Coast Guard District, Bridge Section, Building 50-3, Coast Guard Island, Alameda, CA 94501-5100. This office maintains the public docket for this rulemaking. Comments and material received from the public, as well as documents indicated in this preamble as being available in the docket, will become part of this docket and will be available for inspection or copying at Commander (oan), Eleventh Coast Guard District, Bridge Section, Building 50-3, Coast Guard Island, Alameda, CA 94501-5100 between 8 a.m. and 4 p.m., Monday through Friday, except Federal holidays.

FOR FURTHER INFORMATION CONTACT: David H. Sulouff, Chief, Bridge Section, Eleventh Coast Guard District, telephone (510) 437-3516.

SUPPLEMENTARY INFORMATION:

Request for Comments

We encourage you to participate in this rulemaking by submitting comments and related material. If you do so, please include your name and address, identify the docket number for this rulemaking [CGD11-03-006], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public Meeting. You may submit a request for a meeting by writing to the Bridge Section, Eleventh Coast Guard District, at the address under ADDRESSES explaining why one would be beneficial. If we determine one would aid this rulemaking, we will hold one at a time and place announced by a later notice in the Federal Register.

Background and Purpose

The Mare Island Drawbridge crosses the Napa River between the City of Vallejo (“Vallejo”) and Mare Island, CA. The existing regulation governing the operation of the drawbridge, found at 33 CFR § 117.169, requires the drawbridge to open on signal from 7:30 a.m. to 3:45 p.m. and 4:45 p.m. to 10 p.m. Monday through Friday except Federal holidays, and from 6:30 a.m. to 10 p.m. on Saturdays, Sundays and holidays. The drawbridge need not open for the passage of vessels other than public vessels of the United States from 6:30 a.m. to 7:30 a.m. and 3:45 p.m to 4:45 p.m. except Saturdays, Sundays, and Federal holidays; and must be opened on signal from 10 p.m. to 6:30 a.m. daily, if at least two hours notice is given, and as soon as possible during this period for public vessels of the United States.

For the purpose of reducing the drawbridge operating costs, Vallejo has requested to increase the rush-hour closure periods and to increase the hours when vessels provide advance notice for drawspan operation. Drawbridge operation logs support increasing the hours of advance notice to include periods when vessels historically have not called for an opening.

However, the present morning and afternoon land traffic flows no longer justify rush-hour closure periods when the bridge need not open for passage of vessels. The current regulation was promulgated when the U.S. Navy was still based at Mare Island. Following the departure of the Navy from Mare Island, traffic across the Mare Island Drawbridge diminished significantly and the morning and evening rush-hour closure periods no longer are needed.

The proposed changes would increase the number of hours vessels provide advance notice for drawspan operation and eliminate the rush-hour closure periods. The proposed changes are expected to reduce bridge operating costs while continuing to meet the reasonable needs of waterway traffic.

Discussion of Proposed Rule

The proposed changes are expected to simplify the regulation and reduce drawbridge operating costs, while continuing to meet the reasonable needs of waterway traffic.

Vessel counts derived from drawbridge operating logs and land traffic counts show little demand for bridge openings during the evening hours and a significant decrease in rush-hour land traffic since the Navy departed from Mare Island.

The proposed operating schedule would require the Mare Island Drawbridge to open on signal between the hours of 9 a.m. and 7 p.m. daily, and upon two hours advance notice all other times. During advance notice periods, the bridge would be required to open as soon as possible for emergency vessel operation. Mariners presently contact the City of Vallejo Police Department Dispatch Office to provide two-hour advance notice or for emergency operation of the drawspan. This practice would be codified in the proposed regulation. Also, the rush-hour closure periods would be deleted and references to “public vessels” would be deleted.

Navigational charts show the affected waterway to be a combination of the Mare Island Strait and the Napa River with no drawbridges on any of the tributaries. The Mare Island crossing is a drawbridge and does not meet the definition of a “causeway”. The existing drawbridge is no longer owned or operated by the Navy. Therefore references to “tributaries”, “causeway” and “U.S. Navy” will be deleted and it will be referred to in the regulation as the Mare Island Drawbridge, Mare Island Strait and Napa River, mile 2.8, at Vallejo.

The Coast Guard is requesting comments from the mariners through individual correspondence, Local Notice to Mariners, and transmittal of this Notice of Proposed Rulemaking to established waterway representatives and known operators on the waterway.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security.

We expect the economic impact of this proposed rule to be so minimal that a full Regulatory Evaluation under the regulatory policies and procedures of DHS is unnecessary. The proposed rule is not expected to result in significant negative impacts to the waterway users while providing relief to the bridge owner in the form of bridge operating costs. Impacts to the public waterway users are expected to be minimal based upon data provided by the bridge owner in the form of drawbridge operating logs and vessel traffic counts. This data indicates there is little or no requirement for keeping an operator on the drawbridge during the proposed periods of advance notice.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities, as none were identified that will be affected by the proposed changes.

Vessel traffic counts indicate the waterway users would continue to receive the same level of service at the bridge. The proposal is to decrease unnecessary manning of the bridge during times when the bridge historically has not been called for an opening. Eliminating the rush-hour closure periods would improve vessel access during periods when the bridge normally receives calls for openings.

If you think your business, organization, or governmental jurisdiction qualifies as a small entity and this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so they can better evaluate its effects on them and participate in the rulemaking. If the rule would affect your small business, organization, or governmental jurisdiction and you have questions concerning its provisions or options for compliance, please contact the Eleventh Coast Guard District Bridge Office in writing at the address under ADDRESSES.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this rule under Commandant Instruction M16475.lD, which guides the Coast Guard in complying with the National Environmental Policy Act of 1969 (NEPA)(42 U.S.C. 4321-4370f), and have concluded there are no factors in this case that would limit the use of a categorical exclusion under section 2.B.2 of the Instruction. Therefore, this rule is categorically excluded, under figure 2-1, paragraph (32)(e) of the Instruction, from further environmental documentation, since promulgation of drawbridge regulations has been determined not to have any affect on the environment. A “Categorical Exclusion Determination” is available in the docket where indicated under ADDRESSES.

List of Subjects in 33 CFR Part 117

Bridges.

Regulations

For the reasons discussed in the preamble, the Coast Guard proposes to amend 33 CFR part 117 as follows:

PART 117—DRAWBRIDGE OPERATION REGULATIONS

1. The authority citation for part 117 continues to read as follows:

Authority: 33 U.S.C. 499; Department of Homeland Security Delegation No. 0170.1; 33 CFR 1.05-1(g); section 117.255 also issued under the authority of Pub. L. 102-587, 106 Stat. 5039.

2. Section 117.169(a) is revised to read as follows:

§ 117.169 Mare Island Strait and The Napa River.

(a) The draw of the Mare Island Drawbridge, mile 2.8, at Vallejo shall open on signal between the hours of 9 a.m. and 7 p.m. daily, and upon two hours advance notice all other times. Mariners should contact the City of Vallejo Police Department Dispatcher, to provide the two hour advance notice or for emergency operation of the drawspan.

* * * * *

Dated: November 13, 2003.
K.J. Eldridge,
Rear Admiral, U.S. Coast Guard, Commander, Eleventh Coast Guard District.

[FR Doc. 03-29389 Filed 11-24-03; 8:45 am]

BILLING CODE 4910-15-P